DEPARTMENT OF TRANSPORTATION

Federal Aviation Administration

Notice of Availability of a Record of Decision (ROD) and a Written Reevaluation for the Evaluation of New Information Regarding Departure Procedures at Hartsfield-Jackson Atlanta International Airport, Atlanta, GA

AGENCY: Federal Aviation Administration, DOT.

ACTION: Notice of availability of a ROD and a Written Reevaluation for the evaluation of new information regarding departure procedures at Hartsfield-Jackson Atlanta International Airport, Atlanta, Georgia.

SUMMARY: The Federal Aviation Administration (FAA) is making available a ROD and a Written Reevaluation for new information concerning departure procedures at Hartsfield-Jackson Atlanta International Airport, Atlanta, Georgia.

Point of Contact: Mr. Steve Kelley, Acting Manager, FAA Eastern Terminal Service, Airspace and Procedures, 1 Aviation Plaza, Jamaica, NY 11434-4809, (718) 553-4558.

SUPPLEMENTARY INFORMATION: The FAA is making available a ROD and a Written Reevaluation of new information concerning departure procedures at Hartsfield-Jackson Atlanta International Airport, Atlanta, Georgia. The purpose of the ROD and Written Reevaluation was to evaluate potential environmental impacts arising from the implementation of departure procedures that deviate from those used in the original environmental study conducted for the 9,000-foot Fifth Runway and Associated Projects Final Environmental Impact Statement.

These documents will be available during normal business hours at the following locations: FAA Eastern Terminal Service Area, Airspace and Procedures Office, 1 Aviation Plaza, Jamaica, NY 11434; and at the Hartsfield-Jackson Atlanta International Airport, 6000 N. Terminal Parkway, Atrium 4th Floor, Atlanta, GA 30320.

Due to current security requirements, arrangements must be made with the point of contact prior to visiting these offices.

Issued in Washington, DC on April 5, 2006.
Carolyn Blum,
Regional Administrator, FAA, Southern Region.

[FR Doc. 06-3581 Filed 4-12-06; 11:08 am]

BILLING CODE 4910-13-M